OFFICE OF MANAGEMENT AND BUDGET

Office of Federal Procurement Policy

DEPARTMENT OF DEFENSE

GENERAL SERVICES ADMINISTRATION

NATIONAL AERONAUTICS AND SPACE ADMINISTRATION

[OMB Control No. 9000-0082; Docket No. FAR-2025-0053; Sequence No. 12]

Submission for OMB Review; Federal Acquisition Regulation Part 7 Requirements

AGENCY: Office of Federal Procurement Policy (OFPP), Office of Management and Budget (OMB); Department of Defense (DOD); General Services Administration (GSA); and National Aeronautics and Space Administration (NASA).

ACTION: Notice.

SUMMARY: Under the provisions of the Paperwork Reduction Act, the Regulatory Secretariat Division has submitted to OMB a request to review and approve an extension of a previously approved information collection requirement regarding Federal Acquisition Regulation part 7 requirements.

DATES: Submit comments on or before July 16, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and any Associated Form(s):

9000-0082, Federal Acquisition Regulation Part 7 Requirements.

B. Need and Uses

This clearance covers the information that offerors or contractors must submit to comply with the following Federal Acquisition Regulation (FAR) requirements:

FAR 52.207-3, Right of First Refusal of Employment. This clause requires contractors to provide the contracting officer, within 120 days of beginning contract performance, the names of personnel who were adversely affected or separated from Government employment as a result of the contract award; and subsequently hired by the contractor to perform under the contract within 90 days after contract performance began. The information provided under this clause is used by the Government to ensure contractor compliance with providing the right of first refusal to such affected personnel and that certain obligations to displaced employees are met by the Government.

FAR 52.207-4, Economic Purchase Quantity—Supplies. This provision permits offerors, who believe that acquisition of supplies in quantity different from what is being solicited would be more advantageous to the Government, to recommend with their offer a more economic purchase quantity for the required supplies. The information provided under this provision is used by the Government to acquire supplies at the total and unit costs most advantageous to the Government and to develop a database for future acquisitions of such items of supply.

C. Annual Burden

Respondents: 14,510.

Total Annual Responses: 14,510.

Total Burden Hours: 14,530.

D. Public Comment

A 60-day notice was published in the Federal Register at 90 FR 14449, on April 2, 2025. No comments were received.

Obtaining Copies: Requesters may obtain a copy of the information collection documents from the GSA Regulatory Secretariat Division, by calling 202-501-4755 or emailing GSARegSec@gsa.gov. Please cite OMB Control No. 9000-0082, Federal Acquisition Regulation Part 7 Requirements.

Janet Fry,
Director, Federal Acquisition Policy Division, Office of Governmentwide Acquisition Policy, Office of Acquisition Policy, Office of Governmentwide Policy.

[FR Doc. 2025-11063 Filed 6-13-25; 8:45 am]

BILLING CODE 6820-EP-P